DEPARTMENT OF EDUCATION

(CFDA No. 84.286)

Office of Educational Research and Improvement; Telecommunications Demonstration Project for Mathematics Notice Inviting Applications for New Awards for Fiscal Year (FY) 2000

Note To Applicants

This notice is a complete application package. Together with the statute authorizing the program and applicable regulations governing the program, including the Education Department General Administrative Regulations (EDGAR), the notice contains all of the information, application forms, and instructions you need to apply for a grant under this competition.

Purpose of Program

The purpose of the Telecommunications Demonstration Project for Mathematics is to support a grant to a nonprofit telecommunications entity, or partnership of those entities, to carry out a national telecommunications-based demonstration project to improve the teaching of mathematics.

Eligible Applicants

Nonprofit telecommunications entity or partnership of those entities.

Deadline For Receipt of Applications

March 10, 2000.

Note: We must receive all applications on or before this date. This requirement takes exception to the Education Department General Administrative Regulations (EDGAR), 34 CFR 75.102. Under the Administrative Procedure Act (5 U.S.C. 553), the Department generally offers interested parties the opportunity to comment on proposed regulations. However, this exception to EDGAR makes procedural changes only and does not establish new substantive policy. Therefore, under 5 U.S.C. 553(b)(A), the Assistant Secretary for Educational Research and Improvement has determined that proposed rulemaking is not required.

Deadline For Intergovernmental Review: May 10, 2000.

Estimated Available Funds: $8,500,000.

Estimated Range of Awards: Up to $8,500,000.

Maximum Award: We will reject any application that proposes a budget exceeding $8,500,000 per year. The Secretary may change the maximum amount through a notice published in the Federal Register.

Estimated Number of Awards: 1-3.

Note: The Department is not bound by any estimates in this notice.

Project Period: Up to 60 months.

Please note that all applicants for multi-year awards are required to provide detailed budget information for the total grant period requested.

Budget Period: 12 months.

Page Limit: The application narrative is where you, the applicant, address the selection criteria reviewers use to evaluate your application. Although a standard outline is not required, you should address the application requirements and selection criteria discussed in this application package. You must limit your narrative to the equivalent of no more than 25 pages using the following standards:

• A “page” is 8.5″ × 11″, on one side only, with 1″ margins at the top, bottom, and both sides.

• Double space (no more than three lines per vertical inch) all text in the application narrative, including titles, headings, footnotes, quotations, references, and captions, as well as all text in charts, tables, figures, and graphs.

• Use a font that is either 12-point or larger or no smaller than 10 pitch (characters per inch).

The page limit does not apply to the cover sheet; the budget section, including the narrative budget justification; the assurances and certifications; or the one-page abstract, the resumes, the bibliography, or the letters of support. However, you must address in the application narrative all of the requirements stated in this notice.

If, to meet the page limit, you use more than one side of the page, you use a larger page, or you use a print size, spacing, or margins smaller than the standards in this notice, your application will be rejected.

Applicable Regulations: The Education Department General Administrative Regulations (EDGAR) in 34 CFR parts 74, 75, 77, 79, 81, 82, 85, and 86.

Description of Program: The Telecommunications Demonstration Project for Mathematics is authorized by Part D of Title III of the Elementary and Secondary Education Act of 1965, as amended (20 U.S.C. 6951-6952).

The Secretary is authorized to award grants to a nonprofit telecommunications entity, or a partnership of those entities, to carry out a national telecommunications-based demonstration project to improve the teaching of mathematics. The project must be designed to assist elementary and secondary school teachers in preparing all students for achieving State content standards. The project must be conducted at elementary and secondary school sites in at least 15 States.

Application Requirements: Each nonprofit telecommunications entity, or partnership of those entities, that desires a grant must submit an application that—

(1) Demonstrates that the applicant will use the existing publicly funded telecommunications infrastructure to deliver video, voice, and data in an integrated service to train teachers in the use of new standards-based curricula materials and learning technologies;

(2) Assures that the project for which assistance is sought will be conducted in cooperation with appropriate State educational agencies, local educational agencies, State or local nonprofit public telecommunications entities, and a national mathematics education professional association that has developed content standards; and

(3) Assures that a significant portion of the benefits available for elementary and secondary schools from the project for which assistance is sought will be available to schools of local educational agencies which have a high percentage of children counted for the purpose of part A of title I of the Elementary and Secondary Education Act of 1965, as amended.

Selection Criteria

(a)(1) The Secretary uses the following selection criteria in 34 CFR 75.210 to evaluate applications for a new grant under this competition.

(2) The maximum score for all of these criteria is 100 points.

(3) The maximum score for each criterion is indicated in parentheses.

(b) The criteria. (1) Need for Project (20 points). (i) The Secretary considers the need for the proposed project.

(ii) In determining the need for the proposed project, the Secretary considers the following factors:

(A) The magnitude or severity of the problem to be addressed by the proposed project.

(B) The magnitude of the need for the services to be provided or the activities to be carried out by the proposed project.

(2) Significance (35 points). (i) The Secretary considers the significance of the proposed project.

(ii) In determining the significance of the proposed project, the Secretary considers the following factors:

(A) The national significance of the proposed project.

(B) The likelihood that the proposed project will result in system change or improvement.

(C) The extent to which the proposed project involves the development or demonstration of promising new strategies that build on, or are alternatives to, existing strategies.

(D) The extent to which the results of the proposed project are to be disseminated in ways that will enable others to use the information or strategies.

(E) The potential replicability of the proposed project or strategies, including, as appropriate, the potential for implementation in a variety of settings.

(3) Quality of Project Services (20 points). (i) The Secretary considers the quality of the services to be provided by the proposed project.

(ii) In determining the quality of the services to be provided by the proposed project, the Secretary considers the quality and sufficiency of strategies for ensuring equal access and treatment for eligible project participants who are members of groups that have traditionally been underrepresented based on race, color, national origin, gender, age or disability.

(iii) In addition, the Secretary considers the following factors:

(A) The extent to which the training or professional development services to be provided by the proposed project are of sufficient quality, intensity, and duration to lead to improvements in practice among the recipients of those services.

(B) The extent to which the services to be provided by the proposed project involve the collaboration of appropriate partners for maximizing the effectiveness of project services.

(4) Quality of the Project Evaluation (25 points). (i) The Secretary considers the quality of the evaluation to be conducted of the proposed project.

(ii) In determining the quality of the evaluation, the Secretary considers the following factors:

(A) The extent to which the methods of evaluation are thorough, feasible, and appropriate to the goals, objectives, and outcomes of the proposed project.

(B) The extent to which the methods of evaluation will provide performance feedback and permit periodic assessment of progress toward achieving intended outcomes.

(C) The extent to which the evaluation will provide guidance about effective strategies suitable for replication or testing in other settings.

What Data Collection and Reporting Are Required?

The Government Performance and Results Act (GPRA) of 1993 places new management expectations and requirements on Federal departments and agencies by creating a framework for more effective planning, budgeting, program evaluation, and fiscal accountability for Federal programs. The purpose of the Act is to improve public confidence by holding agencies accountable for achieving program results. Departments and agencies must clearly describe the goals and objectives of their programs, identify resources and actions needed to accomplish these goals and objectives, develop a means of measuring progress made, and regularly report on their achievement. The Telecommunications Demonstration Project for Mathematics program established as its GPRA objective that the program will “promote excellent teaching in mathematics through sustained professional development and teacher networks.” The indicator for meeting this objective is increasing participation in sustained professional development: The number of teachers sharing resources and engaged in other professional development activities through on-line learning communities will increase annually. (For a copy of the ED FY 2000 Annual Plan see http://www.ed.gov/pubs/planrpts.html).

ED staff are developing plans to collect and report valid data to measure progress towards meeting the GPRA objective, as well as to collect other information needed for program monitoring and improvement. Funded projects will be required to submit these data as part of their annual and final performance reports to the U.S. Department of Education.

One important source of information on successes and lessons learned is the project evaluation conducted under individual grants. A strong project evaluation plan should be included in the grant application. The evaluation should shape the development of the project from the beginning of the grant period. The evaluation plan should:

• Include clear benchmarks to monitor progress toward key objectives;

• Include outcome measures to assess impact on the intended recipients of services;

• Identify the project evaluator and describe his or her qualifications;

• Describe the evaluation design including: (1) What types of data will be collected; (2) when various types of data will be collected; (3) what designs and methods will be used; (4) what instruments will be developed and when; (5) how the data will be analyzed; (6) when reports of results and outcomes will be available; and (7) how information will be used by the project to monitor progress and to provide accountability information to stakeholders both at the initial site and effective strategies for replication elsewhere.

Intergovernmental Review of Federal Programs

This program is subject to the requirements of Executive Order 12372 (Intergovernmental Review of Federal Programs) and the regulations in 34 CFR part 79.

One of the objectives of the Executive order is to foster an intergovernmental partnership and a strengthened federalism. The Executive order relies on processes developed by State and local governments for coordination and review of proposed Federal financial assistance.

If you are an applicant, you must contact the appropriate State Single Point of Contact (SPOC) to find out about, and to comply with, the State's process under Executive Order 12372. If you propose to perform activities in more than one State, you should immediately contact the SPOC for each of those States and follow the procedure established in each State under the Executive order. If you want to know the name and address of any SPOC, see the list in the Appendix to this application notice; or you may view the latest official SPOC list on the Web site of the Office of Management and Budget at the following address:

http://www.whitehouse.gov/omb/grants

In States that have not established a process or chosen a program for review, State, areawide, regional, and local entities may submit comments directly to the Department.

Any State Process Recommendation and other comments submitted by a SPOC and any comments from State, areawide, regional, and local entities must be mailed or hand-delivered by the date indicated in this application notice to the following address: The Secretary, E.O. 12372—CFDA# 84.286, U.S. Department of Education, Room 7E200, 400 Maryland Avenue, SW., Washington, DC 20202-0125.

We will determine proof of mailing under 34 CFR 75.102 (Deadline date for applications). Recommendations or comments may be hand-delivered until 4:30 p.m. (Washington, DC time) on the date indicated in this notice.

PLEASE NOTE THAT THE ABOVE ADDRESS IS NOT THE SAME ADDRESS AS THE ONE TO WHICH AN APPLICANT SUBMITS ITS COMPLETED APPLICATION. DO NOT SEND APPLICATIONS TO THE ABOVE ADDRESS.

Instructions For Transmitting Applications

(a) If you want to apply for a grant, you must—

(1) Mail the original and two (2) copies of the application to: U.S. Department of Education, Application Control Center, Attn: CFDA #84.286, Regional Office Building 3, Room 3633, 7th & D Streets, SW, Washington, DC 20202-4725.

Each copy of the application should be covered with a title page (form included in these guidelines) or a reasonable facsimile. All applicants are encouraged to submit voluntarily an additional three (3) copies of the application for a total of one original and five copies, and an additional three (3) copies of the title page itself in order to expedite the review process. However, the absence of these additional copies will not influence the selection process. All sections of the application and all sections of the appendix must be suitable for photocopying to be included in the review (at least one copy of the application should be unbound and suitable for photocopying), or

(2) Hand deliver the application between 8 a.m. and 4 p.m. (Washington, DC time) on or before the deadline date—Monday through Friday, except Federal holidays—to: U.S. Department of Education, Application Control Center, Regional Office Building 3, Room 3633, 7th and D Streets, SW (D Street, SW, entrance,) Washington, DC.

(b) We will not consider for funding an application that we do not receive by the deadline date.

(c) The Application Control Center will mail a Grant Application Receipt Acknowledgment to you. If you do not receive the notification of application receipt within 15 days from date of mailing the application you should call the U.S. Department of Education Application Control Center at (202) 708-9494.

(d) You must indicate on the envelope and—if not provided by the Department—in Item 3 of the Application for Federal Assistance (ED 424; revised January 12, 1999)—the CFDA number for this competition: CFDA #84.286.

Application Instructions and Forms

The Appendix to this notice contains forms and instructions, a statement regarding estimated public reporting burden, a notice to applicants regarding compliance with section 427 of the General Education Provisions Act, and various assurances and certifications. Please organize the parts and additional materials in the following order:

Application for Federal Education Assistance (ED Form 424 (Rev. 1/12/99)) and instructions.

Protection of Human Subjects in Research (Attachment to ED 424).

Budget Information—Non-Construction Programs (ED Form No. 524) and instructions.

Application Narrative.

Assurances—Non-Construction Programs (Standard Form 424B) (Rev. 7/97).

Certifications regarding Lobbying; Debarment, Suspension, and Other Responsibility Matters; and Drug-Free Workplace Requirements (ED Form 80-0013, 12/98) and instructions.

Certification regarding Debarment, Suspension, Ineligibility and Voluntary Exclusion: Lower Tier Covered Transactions (ED Form 80-0014, 9/90) and instructions.

(Note: ED 80-0014 is intended for the use of grantees and should not be transmitted to the Department.)

Disclosure of Lobbying Activities (Standard Form LLL (Rev. 7/97)) (if applicable) and instructions.

You may submit information on a photostatic copy of the application and budget forms, the assurances, and the certifications. However, the application form, the assurances, and the certifications must each have an original signature. We will not award a grant unless we have received a completed application form.

For Further Information Contact: Jean Tolliver, U.S. Department of Education, 555 New Jersey Avenue, NW., room 520, Washington, DC 20208-5544. Telephone: (202) 219-2097. If you use a telecommunications device for the deaf (TDD), you may call the Federal Information Relay Service (FIRS) at 1-800-877-8339.

Individuals with disabilities may obtain this document in an alternative format (e.g., Braille, large print, audiotape, or computer diskette) or by request to the program contact person listed under FOR FURTHER INFORMATION CONTACT. However, the Department is not able to reproduce in an alternative format the standard forms included in this application notice.

Electronic Access to This Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader Program with Search, which is available free at either of the previous sites. If you have questions about using the PDF, call the U.S. Government Printing Office (GPO), toll free, at 1-888-293-6498; or in the Washington, D.C. area, at (202) 512-1530.

Note: The official version of this document is the document published in the Federal Register. Free Internet access to the official edition of the Federal Register and the Code of Federal Regulations is available on GPO Access at: http://www.access.gpo.gov/nara/index.html

Program Authority: 20 U.S.C. 6951-6952.

Dated: January 18, 2000.
C. Kent McGuire,
Assistant Secretary for Educational Research and Improvement.

Appendix—Estimated Public Reporting Burden

According to the Paperwork Reduction Act of 1995, you are not required to respond to a collection of information unless it displays a valid OMB control number. The valid OMB control number for this collection of information is 1850-0760 (Expiration Date: 1/31/2003). We estimate the time required to complete this collection of information to average 40 hours per response, including the time to review instructions, search existing data sources, gather the data needed, and complete and review the collection of information. If you have any comments concerning the accuracy of the time estimate or suggestions for improving this form, please write to: U.S. Department of Education, Washington, DC 20202-4651.

If you have any comments or concerns regarding the status of your submission of this form, write directly to: Telecommunications Demonstration Project for Mathematics, Attn: 84.286, U.S. Department of Education, 555 New Jersey Avenue, NW., Washington, DC 20208-5544.

Instructions for Preparing Your Application Narrative

Before preparing your application narrative, you should read carefully the entire application package before beginning to prepare your application. The Selection Criteria state what you must propose to do, and what criteria will be used to evaluate your application.

The Application: Your application should include:

1. Title Page. Use the Title Page form (Standard Form 424) included in these guidelines.

2. Table of Contents. Include a one-page table of contents.

3. Abstract. Provide a one-page, double-spaced abstract that describes the need to be addressed by the project, summarizes the proposed activities, and identifies the intended outcomes. It is helpful to include on this page your name, address, and phone numbers.

4. Narrative. (Note: The section on PAGE LIMIT elsewhere in this application notice applies to your application).

5. Budget. Use the attached Budget Summary form (ED Form 524), or a suitable facsimile, to present a complete budget summary for each year of the project.

Please provide a justification for this budget by including, for each year, a narrative for each budget line item which explains: (1) The basis for estimating the costs of professional personnel salaries, benefits, project staff travel, materials and supplies, consultants and subcontracts, indirect costs, and any projected expenditures; (2) how the major cost items relate to the proposed activities; (3) the costs of evaluation; and (4) a detailed description explaining in-kind support or funding provided by partners in the project, if any.

The Appendix: Your application should be accompanied by an appendix which includes:

1. Project Personnel. Please provide a brief summary of the background and experience of key project staff as they relate to the specific project activities you are proposing.

2. List of Partners. List all project partners and other sources of support, their contact persons, addresses, telephone numbers, fax numbers, and E-mail addresses. The roles and contributions of all partners and other sources of support should be described within the 25-page narrative, but letters of commitment should be included in this section of the appendix to clearly document the role and contribution of each member.

3. Evidence of Previous Success. Include a brief summary of any evaluation studies, reports, or research that may document the effectiveness or success of the applicant or of the activities proposed in the narrative section of the application.

4. Evaluation Plan. A brief plan should identify what types of data will be collected, when data will be collected, the design and methods to be used, what instruments will be developed, how data will be analyzed, and when reports of results and outcomes will be available.

Other Attachments: Other attachments are not encouraged. Reviewers will have a limited time to read each application. Supplementary materials such as videotapes, CD-ROMs, files on disks, commercial publications, press clippings, testimonial letters, etc. will not be reviewed and will be returned to you.

BILLING CODE 4000-01-U

[FR Doc. 00-1516 Filed 1-20-00; 8:45 am]

BILLING CODE 4000-01-C